DEPARTMENT OF ENERGY

Federal Energy Regulatory Commission

Notice of Amendment of License and Solicitation of Comments, Motions To Intervene, and Protests

May 16, 2002.

Take notice that the following hydroelectric application has been filed with the Commission and is available for public inspection:

a. Application Type: Temporary Amendment to License.

b. Project No.: 77-117.

c. Date Filed: May 13, 2002.

d. Applicant: Pacific Gas and Electric Company.

e. Name of Project: Potter Valley Project.

f. Location: The Potter Valley hydroelectric project is located on the Eel River and East Fork Russian River, in Mendocino and Lake Counties, California. The project is partially located within the Mendocino National Forest on federal lands administered by the U.S. Forest Service.

g. Filed Pursuant to: Federal Power Act, 16 U.S.C. 791(a)-825(r).

h. Applicant Contact: Ms. Rhonda Shiffman, Project Manager, Mail Code N11C, Pacific Gas and Electric Co., P.O. Box 770000, San Francisco, CA 94177-0001, (415) 973-5852.

i. FERC Contact: Questions about this notice can be answered by John Mudre at (202) 219-1208 or e-mail address: john.mudre@ferc.gov. The Commission cannot accept comments, recommendations, motions to intervene or protests sent by e-mail; these documents must be filed as described below.

j. Deadline for Filing Comments, Terms and Conditions, Motions To Intervene, and Protests: 21 days from the issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions, protests and interventions may be filed electronically via the internet in lieu of paper; see 18 CFR 385.2001(a)(1)(iii) and the instructions on the Commission's web site under the “e-Filing” link. k. Pacific Gas and Electric Company (PGE) has filed an application to temporarily reduce, between May 15, and September 15, 2002, the minimum flow requirement set forth in Article 38 to help protect the fishery and recreational resources of Pillsbury reservoir during the 2002 summer season, also to ensure the continued minimum flow releases to the Eel and Russian rivers during the 2003 water-year.

Article 38 requires the following minimum flow releases:

| Dry water-year (cfs) | Normal water-year (cfs)
East Branch Russian River:
September 16 to May 14 | 35 | 35
May 15 to September 15 | 40 | 75
Eel River Below Scott Dam:
December 1 to May 31 | 40 | 100
June 1 to November 30 | 40 | 60

The 2002 water-year is classified as a normal water-year, as defined by Article 38. Specifically, PGE requests a waiver of the 75 cfs minimum flow to the East Branch Russian River from May 15 to September 15, and proposes to release 40 cfs in its place, conserving approximately 8,600 acre-feet of storage, to be used for the protection of fishery and recreational resources in Pillsbury reservoir and help ensure the continued minimum flow releases to the Eel and Russian rivers are met during the 2003 water-year.

l. A copy of the application is available for inspection and reproduction at the Commission's Public Reference Room at 888 First Street NE., Room 2A, Washington, DC 20426, or by calling (202) 208-1371. The application may be viewed on the web at http://www.ferc.gov. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Deputy Secretary.

[FR Doc. 02-12796 Filed 5-21-02; 8:45 am]

BILLING CODE 6717-01-P